DEPARTMENT OF LABOR

Office of Workers' Compensation Programs

20 CFR Parts 1 and 30

RIN 1215-AB32

Performance of Functions Under this Chapter; Claims for Compensation Under the Energy Employees Occupational Illness Compensation Program Act

AGENCY: Office of Workers' Compensation Programs, Employment Standards Administration, Labor.

ACTION: Interim final rule; reopening and extension of comment period.

SUMMARY: The Department of Labor is reopening and extending the comment period for the interim final rule it published on May 25, 2001 (66 FR 28948). The comment period closed on August 23, 2001, and is being reopened (retroactive to that date) and extended for an additional period.

DATES: The Department will continue to accept written comments on the interim final rule from interested parties. Comments on the interim final rule must be received by September 24, 2001.

ADDRESSES: Submit written comments on the interim final rule to Shelby S. Hallmark, Director, Office of Workers' Compensation Programs, Employment Standards Administration, U.S. Department of Labor, Room S-3524, 200 Constitution Avenue, NW., Washington, DC 20210.

FOR FURTHER INFORMATION CONTACT: Shelby S Hallmark, Director, Office of Workers' Compensation Programs, Employment Standards Administration, U.S. Department of Labor, Room S-3524, 200 Constitution Avenue, NW., Washington, DC 20210, Telephone: 202-693-0036 (this is not a toll-free number).

SUPPLEMENTARY INFORMATION: In response to requests from members of the public, the Department has decided to reopen and extend the public comment period for the interim final rule it published on May 25, 2001 (66 FR 28948). The comment period closed on August 23, 2001, and is being reopened (retroactive to that date) and extended through September 24, 2001. In the interim final rule, which became effective on July 24, 2001, the Department promulgated regulations governing its administration of the Energy Employees Occupational Illness Compensation Program Act (EEOICPA), Pub. L. 106-398, 114 Stat. 1654, 1654A-1231 (October 30, 2000). The EEOICPA established a compensation program to provide a lump sum payment of $150,000 and medical benefits as compensation to covered employees suffering from designated illnesses incurred as a result of their exposure to radiation, beryllium, or silica while in the performance of duty for the Department of Energy and certain of its vendors, contractors and subcontractors. This legislation also provided for payment of compensation to certain survivors of these covered employees, as well as for payment of a smaller lump sum ($50,000) to individuals (who would also receive medical benefits), or their survivor(s), who were determined by the Department of Justice to be eligible for compensation under section 5 of the Radiation Exposure Compensation Act (42 U.S.C. 2210 note).

Signed at Washington, DC, this 7th day of September, 2001.
Elaine L. Chao,
Secretary of Labor.

[FR Doc. 01-22960 Filed 9-11-01; 8:45 am]

BILLING CODE 4510-CH-P